DEPARTMENT OF TRANSPORTATION

Coast Guard

33 CFR Part 117

[CGD07-02-112]

Drawbridge Operation Regulations; US17 Highway Bridges, Ashley River, Charleston, SC

AGENCY: Coast Guard, DOT.

ACTION: Notice of temporary deviation from regulations.

SUMMARY: The Commander, Seventh Coast Guard District, has approved a temporary deviation from the regulations governing the operation of the US17 highway bridges across the Ashley River, miles 2.4 and 2.5, at Charleston, South Carolina. This deviation allows both bridges to provide single-leaf openings, upon proper signal, from 7 a.m. on November 8, 2002 until 7 p.m. on December 30, 2002. This temporary deviation is necessary to allow the bridge owner to safely complete repairs to the bridge structures.

DATES: This deviation is effective from 7 a.m. on November 8, 2002 until 7 p.m. on December 30, 2002.

ADDRESSES: Material received from the public, as well as documents indicated in this preamble as being available in the docket [CGD07-02-112] will become part of this docket and will be available for inspection or copying at Commander (obr), Seventh Coast Guard District, 909 SE. 1st Avenue, Room 432, Miami, FL 33131 between 7:30 a.m. and 4 p.m., Monday through Friday, except Federal holidays.

FOR FURTHER INFORMATION CONTACT: Mr. Michael Lieberum, Project Officer, Seventh Coast Guard District, Bridge Branch at (305) 415-6744.

SUPPLEMENTARY INFORMATION: The existing regulations in 33 CFR 117.915(a) govern the operation of the US17 highway bridges across the Ashley River. Those regulations require the bridges to open on signal; except that from 7 a.m. to 9 a.m., Monday through Friday and from 4 p.m. to 7 p.m. daily, the draws need only open if at least 12 hours notice is given. The draws of either bridge shall open as soon as possible for the passage of vessels in an emergency involving danger to life or property.

The US17 bridges across the Ashley River, miles 2.4 and 2.5, are both twin double-leaf bascule bridges with vertical clearances of 14 feet at mean high water and horizontal clearances of 100 feet between the fenders. On July 8, 2002, the Industrial Company (TLC), representing the South Carolina Department of Transportation, requested a temporary deviation from the existing regulations governing the US17 bridges to facilitate repairs to the bridge structures. The Industrial Company requested permission to be able to keep one span of each bridge in the closed position for a period to facilitate repairs. This temporary deviation allows the US17 bridges to only open a single leaf of each bridge from 7 a.m. on November 8, 2002 until 7 p.m. on December 30, 2002. The single leaf openings will still provide a horizontal clearance of 50 feet. The Coast Guard is unaware of any vessel that will be unable to pass through this 50-foot horizontal clearance.

The Commander, Seventh Coast Guard District has granted a temporary deviation from the operating requirements listed in 33 CFR 117.915(a) to allow the US17 bridges to only open a single leaf of each bridge from 7 a.m. on November 8, 2002 until 7 p.m. on December 30, 2002.

Dated: November 6, 2002.
Greg Shapley,
Chief, Bridge Administration Branch, Seventh Coast Guard District.

[FR Doc. 02-29653 Filed 11-20-02; 8:45 am]

BILLING CODE 4910-15-P